DEPARTMENT OF COMMERCE

International Trade Administration

Healthcare Technology, Policy & Trade Mission: Mexico City, Mexico, May 13-16, 2012

AGENCY: International Trade Administration, Department of Commerce.

ACTION: Notice.

Mission Description

The United States Department of Commerce, International Trade Administration, U.S. and Foreign Commercial Service (CS) is organizing an executive-led healthcare technology policy and trade mission to Mexico City, May 13-16, 2012. This mission is intended to focus on a variety of U.S. suppliers of healthcare information technologies (IT), medical devices, and other medical technology.

The mission will introduce U.S. company participants to industry leaders and government officials in Mexico City to learn about various opportunities in the IT healthcare, medical devices, and other medical technology industries in Mexico. Participating in an official U.S. industry delegation, rather than traveling to Mexico independently, will enhance the companies' ability to gain access to key players and thought leaders in the healthcare field and obtain important policy information regarding their respective markets. The mission will include group meetings with government officials and with private sector industrial groups and visits to hospitals and other healthcare institutions. An optional day of Gold Key meetings will be offered for an additional fee.

Commercial Setting

The Mexico IT healthcare sector is an emerging market as healthcare institutions have begun identifying, seeking out and implementing technologies to become more efficient and competitive. Currently, the most popular IT applications include patient control, electronic filing, supplies inventory control, pharmacy inventory and services management, and security systems.

Potential clients for IT in Mexico's healthcare sector are mostly large public and private hospitals with resources to purchase sophisticated technologies to automate patient services, administrative processes and supplies control systems. In the Mexican public sector there are 1,578 hospitals of which, only 310 have more than 120 beds. In the private sector, of the 3,140 hospitals, only 80 have over 50 beds. Most of these hospitals offer highly specialized healthcare services and are located in medium and large Mexican cities. There are also some medium-sized private hospitals that offer specialty services and focus on high income, insured patients. These hospitals also represent potential users of IT healthcare applications.

In addition, Mexico is a good market for medical devices. In 2010, total imports of medical equipment, instruments and other medical devices reached $3.5 billion. Of these imports 57%, or $2 billion, were of U.S. origin. With the clarification and pronouncement of regulations for medical technologies, Mexico is expected to become an even more attractive market for U.S. companies.

Best Prospects

Hospitals in Mexico are upgrading facilities and seeking high technology equipment and medical devices, as well as greater automation, control and supervision of their operations, medical supplies, billing and radiology & imaging. In addition, the sector is open to technological solutions that can provide real time information through online systems and mobile devices. Systems and products that are in demand include:

• Electronic Health Record (EHR)

• Automation hardware and software

• Billing and other administrative automation systems

• Real-time databases and Web sites with healthcare information

• Imaging data transfer and storaging

• Specialty medical instruments

• Diagnostic medical equipment

Mission Goals

The short term goals of the Healthcare Technology, Policy and Trade Mission to Mexico are, (1) to introduce U.S. companies to industry leaders and government officials in Mexico City to learn about various opportunities in the IT healthcare, medical devices, and other medical technology industries; (2) to get a first-hand look at current use of healthcare technology in Mexico's top hospitals and other healthcare institutions; (3) create a business networking environment for U.S. firms to develop business relationships and meet with potential partners and end-users; (4) Optional day: to introduce U.S. companies to potential end-users, joint-venture partners and other industry representatives in Mexico City and its surrounding areas.

Mission Scenario

Upon arrival in Mexico City on May 13, participants will check into the hotel and participate in a commercial briefing on the Mexican healthcare sector followed by a cocktail meet-and-greet. On the morning of May 14, the U.S. delegation will leave together on a full day of meetings with Mexican government officials and visits to Mexico's top hospitals and other healthcare institutions. The day will end with an evening networking reception at the Ambassador's residence or other location to be confirmed, where delegates will have a chance to meet key government and industry contacts in the Mexico City area. On May 15 delegates will attend a healthcare technology policy and trade round table that will include a working lunch and last through the beginning of the afternoon. The round table will include presentations by key players in the Mexican healthcare sector and open discussion among all participants. On May 16, participants may opt for a day of one-on-one matchmaking appointments with previously screened potential partners, buyers and end-users at their places of business, escorted by U.S. Commercial Service staff. If requested, this service will come at an additional cost not included in the trade mission participation fee.

The following items are included in the price of the trade mission:

• Pre-travel webinar briefing, covering Mexican business practices and security;

• Mexican nationwide promotion of trade mission, including wide circulation of the printed company directory;

• Networking reception at Ambassador's residence or other venue in Mexico City on May 14;

• Coffee service and lunch during the technology, policy and trade round table on May 15;

• Group transportation to the reception and all-day visits held on May 14;

• Preferential hotel rates in Mexico City.

Optional Gold Key Service not included in the trade mission participation fee:

• The Gold Key Service provides U.S. firms with pre-screened appointments to explore the market and establish relationships with potential overseas agents, distributors, sales representatives and strategic business partners.

• The Commercial Service will schedule a conference call with the appropriate staff to understand your objectives and requirements.

• A designated escort/translator will be provided to assist you during scheduled matchmaking meetings.

Proposed Timetable

The mission program will begin on the evening of Sunday, May 13, 2012, and continue through May 15, with an optional day of matchmaking appointments on May 16.

May 13 | Commercial Briefing: Mexican healthcare market, government procurement. Cocktail meet-and-greet.
May 14 | Full-delegation government meetings, visits to hospitals and other healthcare institutions. Reception at Ambassador's residence or other venue to be confirmed.
May 15 | Healthcare Technology, Policy and Trade Mission Round Table and working lunch.
May 16 | Optional Gold Key matchmaking meetings with potential clients, distributors/representatives.

Participation Requirements

All parties interested in participating in the Healthcare Technology, Policy and Trade Mission must complete and submit an application for consideration by U.S. Department of Commerce. All applicants will be evaluated on their ability to meet certain conditions and to satisfy the selection criteria as outlined below. This mission has a goal of a minimum of 15 and a maximum of 20 companies to be selected to participate in the mission from the applicant pool. U.S. companies already doing business in Mexico as well as U.S. companies seeking to enter the market for the first time are encouraged to apply.

Fees and Expenses

After a company has been selected to participate in the mission, a payment to the U.S. Department of Commerce in the form of a participation fee is required. The participation fee will be $755 ¹ for small and medium sized firms (SME) and the fee for large firms is $805. The fee for each additional firm representative (large firm or SME) is $300. Expenses for air travel (to Mexico City and return), lodging, meals and incidentals will be the responsibility of each mission participant. An additional fee for the optional Gold Key service is as follows: SME, $885 for 1 day of meetings and $535 for a second day; large firm, $2,300 for one day of meetings and $1,000 for a second day. Gold Key clients will also be responsible for transportation costs to all meetings, which is approximately $230 for a driver and rental car for 10 hours.

¹ An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008

(see http://www.export.gov/newsletter/march2008/initiatives.html for additional information).

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria:

• Suitability of a company's products or services to the mission's goals

• Applicant's potential for business in Mexico, including likelihood of exports resulting from the trade mission

• Consistency of the applicant's goals and objectives with the stated scope of the trade mission (i.e., the sectors indicated in the mission description)

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://export.gov/trademissions/eg_main_023185.asp) and other Internet web sites, press releases to general and trade media, direct mail, industry trade associations and other multiplier groups, and publicity at industry meetings, symposia, conferences, and trade shows.

Recruitment for the mission will begin immediately and conclude no later than March 9, 2012. CS Mexico will review all applications immediately after the deadline. We will inform applicants of selection decisions as soon as possible after March 9, 2012. Applications received after that date will be considered only if space and scheduling constraints permit.

Contacts

Mr. Everett Wakai, Commercial Officer, U.S. Commercial Service Mexico—Mexico City, Tel: (011-52-55) 5140-2603, everett.wakai@trade.gov.

Ms. Alicia Herrera, Commercial Specialist, U.S. Commercial Service Mexico—Mexico City, Tel: (011-52-55) 5140-2629, alicia.herrera@trade.gov.

Ms. Teresa Verthein, Commercial Assistant, U.S. Commercial Service Mexico—Mexico City, Tel: (011-52-55) 5140-2652, teresa.verthein@trade.gov.

Mr. Gerry Zapiain, International Trade Specialist, International Trade Administration—Washington, DC, Tel: (202) 482-2410, gerry.zapiain@trade.gov.

Elnora Moye,
Trade Program Assistant.

[FR Doc. 2011-30684 Filed 11-28-11; 8:45 am]

BILLING CODE 3510-DS-P